DEPARTMENT OF AGRICULTURE

Tribal Advisory Committee

AGENCY: Office of Tribal Relations, USDA.

ACTION: Notice of public, virtual meeting.

SUMMARY: Notice is hereby given, pursuant to the provisions of the rules and regulations of the U.S. Department of Agriculture (USDA) and the Federal Advisory Committee Act (FACA), the Office of Tribal Relations is announcing a meeting of the Tribal Advisory Committee on Tuesday February 18, 2025, at 12 p.m. Eastern Standard Time. The Committee is authorized under the Agriculture Improvement Act of 2018 (the 2018 Farm Bill) and operates in compliance with the Federal Advisory Committee Act. The purpose of the Committee is to provide advice and guidance to USDA on matters related to Tribal and Indian affairs.

DATES: A virtual webinar with call-in options will take place on February 18th from 12 p.m. to 7 p.m. Eastern Standard Time with public comment going from 3 p.m. to approximately 4 p.m.

Public Comments: The public may file written comments to the Tribal Advisory Committee by February 17, 2025, via email at Tribal.Relations@usda.gov. Additional comments will be included in the public record.

ADDRESSES:

Webinar Participation Information: Registration to attend this meeting, including to provide oral public comments, is available at https://www.zoomgov.com/webinar/register/WN_J8bFOmGZT_mRfXi0qQPoPg#/registration.

FOR FURTHER INFORMATION CONTACT: General information about the Committee can be found at https://www.usda.gov/tribalrelations/advisory-committee. Josiah Griffin, Designated Federal Officer, by phone at 202-205-2249 or via email at Josiah.Griffin@usda.gov. Individuals who use telecommunication devices for the deaf (TDD) may call the Federal Information Relay Service (FIRS) at 1-800-877-8339 between 8:00 a.m. and 8:00 p.m., Eastern Standard Time, Monday through Friday.

SUPPLEMENTARY INFORMATION: An agenda and more information for this meeting will be available at https://www.usda.gov/tribalrelations/advisory-committee. The Secretary established the Committee pursuant to Section 12303 of the Agriculture Improvement Act of 2018 (7 U.S.C. 6921(b)). The Committee is managed in accordance with the provisions of the Federal Advisory Committee Act, as amended, 5 U.S.C. 10. In addition to providing recommendations to the Secretary, the Tribal Advisory Committee is required to submit reports to the three Congressional Committees listed above.

Availability of Materials for the Meeting: All written public comments will be compiled into a binder and will be made available for review at the meeting. Duplicate comments from multiple individuals will appear as one comment, with a notation that multiple copies of the comment were received. Please visit https://www.usda.gov/tribalrelations/advisory-committee to learn more about the agenda for or reports resulting from this meeting.

Be advised that anyone calling into the Zoom teleconference system that is interested in providing public comment will be asked to provide their name, title, and Tribal or organizational affiliations.

Meeting Agenda: Agenda items discussed may include, but are not limited to, welcome and introductions; administrative matters; public comment; and member deliberation on a committee workplan for calendar year 2025. The full agenda will be posted on the Tribal Advisory Committee web page (https://www.usda.gov/about-usda/general-information/staff-offices/office-tribal-relations/tribal-advisory-committee) at least 48 hours in advance of the meeting.

Equal opportunity practices, in line with USDA policies and consistent with applicable law, will be followed in all membership appointments to the Committee. To ensure that the recommendations of the Committee have taken into account the needs of the diverse groups served by the Department, membership shall include, to the extent practicable and consistent with applicable law, individuals with demonstrated ability to represent minorities, women, and persons with disabilities.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

This meeting notice is being published late due to additional administrative matters of the USDA Department. USDA is an equal opportunity provider, employer, and lender.

Dated: February 10, 2025.
Cikena Reid,
Committee Management Officer, USDA.

[FR Doc. 2025-02603 Filed 2-12-25; 8:45 am]

BILLING CODE 3420-AG-P